DEPARTMENT OF ENERGY

Federal Energy Regulatory Commission

Combined Notice of Filings #2

Take notice that the Commission received the following electric rate filings:

Docket Numbers: ER10-2564-002; ER10-2600-002; ER10-2289-002.

Applicants: Tucson Electric Power Company, UNS Electric, Inc., UniSource Energy Development Company.

Description: Second Supplement, Errata and Clarification to December 14, 2012 Triennial Market Power Update of Tucson Electric Power Company, et. al.

Filed Date: 12/9/13.

Accession Number: 20131209-5081.

Comments Due: 5 p.m. ET 12/30/13.

Docket Numbers: ER11-3643-000.

Applicants: PacifiCorp.

Description: PacifiCorp submits TRC Refund Report to be effective N/A.

Filed Date: 12/9/13.

Accession Number: 20131209-5164.

Comments Due: 5 p.m. ET 12/30/13.

Docket Numbers: ER14-7-000.

Applicants: American Electric Power Service Corporation.

Description: Amendment to Application of American Electric Power Service Corporation.

Filed Date: 12/6/13.

Accession Number: 20131206-5161.

Comments Due: 5 p.m. ET 12/27/13.

Docket Numbers: ER14-570-000.

Applicants: Rail Splitter Wind Farm, LLC.

Description: Rail Splitter Wind Farm, LLC submits Second Revised MBR to be effective 12/10/2013.

Filed Date: 12/9/13.

Accession Number: 20131209-5141.

Comments Due: 5 p.m. ET 12/30/13.

Docket Numbers: ER14-571-000.

Applicants: Sagebrush Power Partners, LLC.

Description: Sagebrush Power Partners, LLC submits First Rev MBR to be effective 12/10/2013.

Filed Date: 12/9/13.

Accession Number: 20131209-5142.

Comments Due: 5 p.m. ET 12/30/13.

Docket Numbers: ER14-572-000.

Applicants: Sustaining Power Solutions LLC.

Description: Sustaining Power Solutions LLC submits First Revised MBR Tariff to be effective 12/10/2013.

Filed Date: 12/9/13.

Accession Number: 20131209-5145.

Comments Due: 5 p.m. ET 12/30/13.

Docket Numbers: ER14-573-000.

Applicants: Wheat Field Wind Power Project LLC.

Description: Wheat Field Wind Power Project LLC submits First Revised MBR Tariff to be effective 12/10/2013.

Filed Date: 12/9/13.

Accession Number: 20131209-5150.

Comments Due: 5 p.m. ET 12/30/13.

Docket Numbers: ER14-574-000.

Applicants: Blackstone Wind Farm, LLC.

Description: Blackstone Wind Farm, LLC submits First Revised MBR Tariff to be effective 12/10/2013.

Filed Date: 12/9/13.

Accession Number: 20131209-5151.

Comments Due: 5 p.m. ET 12/30/13.

Docket Numbers: ER14-575-000.

Applicants: Marble River, LLC.

Description: Marble River, LLC submits First Revised MBR to be effective 12/10/2013.

Filed Date: 12/9/13.

Accession Number: 20131209-5153.

Comments Due: 5 p.m. ET 12/30/13.

Docket Numbers: ER14-576-000.

Applicants: Meadow Lake Wind Farm LLC.

Description: Meadow Lake Wind Farm LLC submits First Rev MBR Tariff to be effective 12/10/2013.

Filed Date: 12/9/13.

Accession Number: 20131209-5154.

Comments Due: 5 p.m. ET 12/30/13.

Docket Numbers: ER14-577-000.

Applicants: Meadow Lake Wind Farm II LLC.

Description: Meadow Lake Wind Farm II LLC submits First Rev MBR Tariff to be effective 12/10/2013.

Filed Date: 12/9/13.

Accession Number: 20131209-5155.

Comments Due: 5 p.m. ET 12/30/13.

Docket Numbers: ER14-578-000.

Applicants: PJM Interconnection, L.L.C.

Description: PJM Interconnection, L.L.C. submits Notice of Cancellation of Original Service Agreement No. 3419; Queue No. X3-077 to be effective 1/14/2014.

Filed Date: 12/9/13.

Accession Number: 20131209-5156.

Comments Due: 5 p.m. ET 12/30/13.

Docket Numbers: ER14-579-000.

Applicants: PacifiCorp.

Description: PacifiCorp submits Termination of UAMPS Horse Butte Communications Installment Agreement to be effective 2/8/2014.

Filed Date: 12/9/13.

Accession Number: 20131209-5165.

Comments Due: 5 p.m. ET 12/30/13.

Docket Numbers: ER14-580-000.

Applicants: PJM Interconnection, L.L.C.

Description: PJM Interconnection, L.L.C. submits Notice of Cancellation of Original Service Agreement No. 3418; Queue No. X3-071 to be effective 1/14/2014.

Filed Date: 12/9/13.

Accession Number: 20131209-5174.

Comments Due: 5 p.m. ET 12/30/13.

Docket Numbers: ER14-581-000.

Applicants: ISO New England Inc., New England Power Pool Participants Committee.

Description: ISO New England Inc. submits MR1 Rev. Re. DR Commercial Operation Auditing to be effective 6/1/2014.

Filed Date: 12/9/13.

Accession Number: 20131209-5183.

Comments Due: 5 p.m. ET 12/30/13.

Docket Numbers: ER14-582-000.

Applicants: PJM Interconnection, L.L.C.

Description: PJM Interconnection, L.L.C. submits Notice of Cancellation of Original Service Agreement No. 3500; Queue No. Y1-064 to be effective 1/3/2014.

Filed Date: 12/9/13.

Accession Number: 20131209-5184.

Comments Due: 5 p.m. ET 12/30/13.

Docket Numbers: ER14-583-000.

Applicants: Caithness Long Island, LLC.

Description: Caithness Long Island, LLC submits First Revised MBR Tariff to be effective 12/10/2013.

Filed Date: 12/9/13.

Accession Number: 20131209-5186.

Comments Due: 5 p.m. ET 12/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2013.
Nathaniel J. Davis, Sr.,
Deputy Secretary.

[FR Doc. 2013-30094 Filed 12-17-13; 8:45 am]

BILLING CODE 6717-01-P